FEDERAL ELECTION COMMISSION

[NOTICE 2018-03]

Price Index Adjustments for Expenditure Limitations and Lobbyist Bundling Disclosure Threshold

AGENCY: Federal Election Commission.

ACTION: Notice of adjustments to expenditure limitations and lobbyist bundling disclosure threshold.

SUMMARY: As mandated by provisions of the Federal Election Campaign Act (“the Act”), the Federal Election Commission (“the Commission”) is adjusting certain expenditure limitations and the lobbyist bundling disclosure threshold set forth in the Act, to index the amounts for inflation. Additional details appear in the supplemental information that follows.

DATES: These adjustments are applicable January 1, 2018.

FOR FURTHER INFORMATION CONTACT: Ms. Elizabeth S. Kurland, Information Division, 999 E Street NW, Washington, DC 20463; (202) 694-1100 or (800) 424-9530.

SUPPLEMENTARY INFORMATION: Under the Federal Election Campaign Act, 52 U.S.C. 30101-46, coordinated party expenditure limits (52 U.S.C. 30116(d)(3)) and the disclosure threshold for contributions bundled by lobbyists (52 U.S.C. 30104(i)(3)(A)) are adjusted periodically to reflect changes in the consumer price index. See 52 U.S.C. 30104(i)(3), 30116(c); 11 CFR 109.32, 110.17(a), (f). The Commission is publishing this notice to announce the adjusted limits and disclosure threshold for 2018.

Coordinated Party Expenditure Limits for 2018

Under 52 U.S.C. 30116(c), the Commission must adjust the expenditure limitations established by 52 U.S.C. 30116(d) (the limits on expenditures by national party committees, state party committees, or their subordinate committees in connection with the general election campaign of candidates for Federal office) annually to account for inflation. This expenditure limitation is increased by the percent difference between the price index, as certified to the Commission by the Secretary of Labor, for the 12 months preceding the beginning of the calendar year and the price index for the base period (calendar year 1974). 52 U.S.C. 30116(c).

1. Expenditure Limitation for House of Representatives in States With More Than One Congressional District

Both the national and state party committees have an expenditure limitation for each general election held to fill a seat in the House of Representatives in states with more than one congressional district. See 52 U.S.C. 30116(d)(3)(B). This limitation also applies to the District of Columbia and territories that elect individuals to the office of Delegate or Resident Commissioner.¹ Id. The formula used to calculate the expenditure limitation in such states and territories multiplies the base figure of $10,000 by the difference in the price index (4.97135), rounding to the nearest $100. See 52 U.S.C. 30116(c)(1)(B), (d)(3)(B); 11 CFR 109.32(b), 110.17. Based upon this formula, the expenditure limitation for 2018 general elections for House candidates in these states, districts, and territories is $49,700.

¹ Currently, these are the Commonwealth of Puerto Rico, and the territories of American Samoa, Guam, the United States Virgin Islands and the Northern Mariana Islands. See http://www.house.gov/representatives.

2. Expenditure Limitation for Senate and for House of Representatives in States With Only One Congressional District

Both the national and state party committees have an expenditure limitation for a general election held to fill a seat in the Senate or in the House of Representatives in states with only one congressional district. See 52 U.S.C. 30116(d)(3)(A). The formula used to calculate this expenditure limitation considers not only the price index but also the voting age population (“VAP”) of the state. Id. The VAP figures used to calculate the expenditure limitations were certified by the U.S. Census Bureau. The VAP of each state is also published annually in the Federal Register by the U.S. Department of Commerce. 11 CFR 110.18. The general election expenditure limitation is the greater of: The base figure ($20,000) multiplied by the difference in the price index, 4.97135 (which totals $99,400); or $0.02 multiplied by the VAP of the state, multiplied by 4.97135. Amounts are rounded to the nearest $100. See 52 U.S.C. 30116(c)(1)(B), (d)(3)(A); 11 CFR 109.32(b), 110.17. The chart below provides the state-by-state breakdown of the 2018 general election expenditure limitation for Senate elections. The expenditure limitation for 2018 House elections in states with only one congressional district ² is $99,400.

² Currently, these states are: Alaska, Delaware, Montana, North Dakota, South Dakota, Vermont and Wyoming. See http://www.house.gov/representatives/.

³ This expenditure limit does not apply to the District of Columbia, the Commonwealth of Puerto Rico, and the territories of American Samoa, Guam, the United States Virgin Islands, and the Northern Mariana Islands. See 52 U.S.C. 30116(d)(3)(A); 11 CFR 109.32(b)(2)(i).

Senate General Election Coordinated Expenditure Limits—2018 Elections ³
State | Voting age population (VAP) | VAP × .02 × the price index (4.97135) | Senate expenditure limit (the greater of the amount in column 3 or $99,400)
Alabama | 3,779,274 | $375,800 | $375,800
Alaska | 554,867 | 55,200 | 99,400
Arizona | 5,382,780 | 535,200 | 535,200
Arkansas | 2,298,739 | 228,600 | 228,600
California | 30,476,517 | 3,030,200 | 3,030,200
Colorado | 4,345,321 | 432,000 | 432,000
Connecticut | 2,844,358 | 282,800 | 282,800
Delaware | 757,455 | 75,300 | 99,400
Florida | 16,782,417 | 1,668,600 | 1,668,600
Georgia | 7,914,681 | 786,900 | 786,900
Hawaii | 1,121,794 | 111,500 | 111,500
Idaho | 1,273,151 | 126,600 | 126,600
Illinois | 9,904,838 | 984,800 | 984,800
Indiana | 5,093,409 | 506,400 | 506,400
Iowa | 2,413,764 | 240,000 | 240,000
Kansas | 2,200,585 | 218,800 | 218,800
Kentucky | 3,443,650 | 342,400 | 342,400
Louisiana | 3,575,930 | 355,500 | 355,500
Maine | 1,083,273 | 107,700 | 107,700
Maryland | 4,704,671 | 467,800 | 467,800
Massachusetts | 5,489,864 | 545,800 | 545,800
Michigan | 7,785,662 | 774,100 | 774,100
Minnesota | 4,277,949 | 425,300 | 425,300
Mississippi | 2,270,533 | 225,800 | 225,800
Missouri | 4,730,561 | 470,300 | 470,300
Montana | 821,604 | 81,700 | 99,400
Nebraska | 1,444,343 | 143,600 | 143,600
Nevada | 2,312,576 | 229,900 | 229,900
New Hampshire | 1,084,022 | 107,800 | 107,800
New Jersey | 7,026,626 | 698,600 | 698,600
New Mexico | 1,599,980 | 159,100 | 159,100
New York | 15,694,902 | 1,560,500 | 1,560,500
North Carolina | 7,971,073 | 792,500 | 792,500
North Dakota | 579,621 | 57,600 | 99,400
Ohio | 9,053,374 | 900,100 | 900,100
Oklahoma | 2,971,579 | 295,500 | 295,500
Oregon | 3,269,157 | 325,000 | 325,000
Pennsylvania | 10,141,022 | 1,008,300 | 1,008,300
Rhode Island | 852,307 | 84,700 | 99,400
South Carolina | 3,919,695 | 389,700 | 389,700
South Dakota | 654,810 | 65,100 | 99,400
Tennessee | 5,208,482 | 517,900 | 517,900
Texas | 20,938,557 | 2,081,900 | 2,081,900
Utah | 2,175,134 | 216,300 | 216,300
Vermont | 506,832 | 50,400 | 99,400
Virginia | 6,600,844 | 656,300 | 656,300
Washington | 5,759,927 | 572,700 | 572,700
West Virginia | 1,446,139 | 143,800 | 143,800
Wisconsin | 4,512,839 | 448,700 | 448,700
Wyoming | 442,832 | 44,000 | 99,400

Limitations on Contributions by Individuals, Non-Multicandidate Committees and Certain Political Party Committees Giving to U.S. Senate Candidates for the 2017-2018 Election Cycle

For the convenience of the readers, the Commission is also republishing the contribution limitations for individuals, non-multicandidate committees and for certain political party committees giving to U.S. Senate candidates and national party committees for the 2017-2018 election cycle:

Statutory provision | Statutory amount | 2017-2018 limit
52 U.S.C. 30116(a)(1)(A) | $2,000 | $2,700
52 U.S.C. 30116(a)(1)(B) | 25,000 | 33,900
52 U.S.C. 30116(h) | 35,000 | 47,400

Lobbyist Bundling Disclosure Threshold for 2018

The Act requires certain political committees to disclose contributions bundled by lobbyists/registrants and lobbyist/registrant political action committees once the contributions exceed a specified threshold amount. 52 U.S.C. 30104(i)(1), (3)(A). The Commission must adjust this threshold amount annually to account for inflation. 52 U.S.C. 30104(i)(1). The disclosure threshold is increased by multiplying the $15,000 statutory disclosure threshold by 1.21588, the difference between the price index, as certified to the Commission by the Secretary of Labor, for the 12 months preceding the beginning of the calendar year and the price index for the base period (calendar year 2006). The resulting amount is rounded to the nearest multiple of $100. See 52 U.S.C. 30104(i)(3), 30116(c)(1)(B); 11 CFR 104.22(g). Based upon this formula ($15,000 × 1.21588), the lobbyist bundling disclosure threshold for calendar year 2018 is $18,200.

On behalf of the Commission.
Dated: January 29, 2018.
Caroline C. Hunter,
Chair, Federal Election Commission.

[FR Doc. 2018-02163 Filed 2-9-18; 8:45 am]

BILLING CODE 6715-01-P